SUSQUEHANNA RIVER BASIN COMMISSION

Projects Approved for Consumptive Uses of Water

AGENCY: Susquehanna River Basin Commission.

ACTION: Notice.

SUMMARY: This notice lists the projects approved by rule by the Susquehanna River Basin Commission during the period set forth in “DATES.”

DATES: July 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (f)(13) and 18 CFR 806.22 (f) for the time period specified above:

Water Source Approval—Issued Under 18 CFR 806.22(f):

1. Seneca Resources Company, LLC; Pad ID: Warren Pad B; ABR-20100621.R2; Covington and Richmond Townships, Tioga County, Pa.; Consumptive Use of Up to 4.0000 mgd; Approval Date: July 8, 2020.

2. Chesapeake Appalachia, L.L.C.; Pad ID: Shaw; ABR-20100634.R2; Windham Township, Wyoming County, Pa.; Consumptive Use of Up to 7.5000 mgd; Approval Date: July 8, 2020.

3. Chesapeake Appalachia, L.L.C.; Pad ID: Stalford; ABR-20100617.R2; Wyalusing Township, Bradford County, Pa.; Consumptive Use of Up to 7.50000 mgd; Approval Date: July 8, 2020.

4. Chesapeake Appalachia, L.L.C.; Pad ID: Towner; ABR-20100638.R2; Rome Township, Bradford County, Pa.; Consumptive Use of Up to 7.5000 mgd; Approval Date: July 8, 2020.

5. SWEPI LP; Pad ID: Vandergrift 290; ABR-20100442.R1; Charleston Township, Tioga County, Pa.; Consumptive Use of Up to 4.0000 mgd; Approval Date: July 8, 2020.

6. Chief Oil & Gas, LLC.; Pad ID: SGL-12 P UNIT PAD; ABR-202007001; Franklin, Bradford County, Pa.; Consumptive Use of Up to 2.5000 mgd; Approval Date: July 27, 2020.

7. Chesapeake Appalachia, L.L.C.; Pad ID: Hickory Row; ABR-202007002; Wyalusing Township, Bradford County, Pa.; Consumptive Use of Up to 7.5000 mgd; Approval Date: July 27, 2020.

8. Chesapeake Appalachia, L.L.C.; Pad ID: Tanner & Hana; ABR-202007003; Wyalusing Township, Bradford County, Pa.; Consumptive Use of Up to 7.5000 mgd; Approval Date: July 27, 2020.

9. Chesapeake Appalachia, L.L.C.; Pad ID: Shingle Ridge; ABR-202007004; North Branch Township, Wyoming County, Pa.; Consumptive Use of Up to 7.5000 mgd; Approval Date: July 27, 2020.

10. Chesapeake Appalachia, L.L.C.; Pad ID: Black Creek; ABR-20100686.R2; Forks Township, Sullivan County, Pa.; Consumptive Use of Up to 7.5000 mgd; Approval Date: July 27, 2020.

11. Repsol Oil & Gas USA, LLC; Pad ID: GARDINER (01 071) D; ABR-20100522.R2; Troy Township, Bradford County, Pa.; Consumptive Use of Up to 6.0000 mgd; Approval Date: July 27, 2020.

12. ARD Operating, LLC.; Pad ID: COP Tr 685 A; ABR-20100541.R2; Cummings Township, Lycoming County, Pa.; Consumptive Use of Up to 3.0000 mgd; Approval Date: July 27, 2020.

13. ARD Operating, LLC.; Pad ID: COP Tr 231 D; ABR-20100530.R2; Snow Shoe Township, Centre County, Pa.; Consumptive Use of Up to 3.0000 mgd; Approval Date: July 27, 2020.

14. XTO Energy, Inc.; Pad ID: Everbe Farms 8518H; ABR-20100533.R2; Franklin Township, Lycoming County, Pa.; Consumptive Use of Up to 4.0000 mgd; Approval Date: July 27, 2020.

15. Chesapeake Appalachia, L.L.C.; Pad ID: Covington; ABR-201007123.R2; Sheshequin Township, Bradford County, Pa.; Consumptive Use of Up to 7.5000 mgd; Approval Date: July 28, 2020.

16. Chief Oil & Gas, LLC.; Pad ID: McCarty Drilling Pad #1; ABR-20100676.R2; Elkland Township, Sullivan County, Pa.; Consumptive Use of Up to 2.0000 mgd; Approval Date: July 30, 2020.

17. Chief Oil & Gas, LLC.; Pad ID: Signore Drilling Pad #1; ABR-20100697.R2; Elkland Township, Sullivan County, Pa.; Consumptive Use of Up to 2.0000 mgd; Approval Date: July 30, 2020.

18. Chief Oil & Gas, LLC.; Pad ID: Waldeisen-Ladd Drilling Pad; ABR-20100699.R2; Fox Township, Sullivan County, Pa.; Consumptive Use of Up to 2.0000 mgd; Approval Date: July 30, 2020.

19. Chesapeake Appalachia, L.L.C.; Pad ID: Delima; ABR-201007078.R2; Albany Township, Bradford County, Pa.; Consumptive Use of Up to 7.5000 mgd; Approval Date: July 30, 2020.

20. Chesapeake Appalachia, L.L.C.; Pad ID: Moose; ABR-201007019.R2; Wysox Township, Bradford County, Pa.; Consumptive Use of Up to 7.5000 mgd; Approval Date: July 30, 2020.

21. Chesapeake Appalachia, L.L.C.; Pad ID: Redmond; ABR-201007005.R2; Meshoppen Township, Wyoming County, Pa.; Consumptive Use of Up to 7.5000 mgd; Approval Date: July 30, 2020.

22. Chesapeake Appalachia, L.L.C.; Pad ID: Robinson NEW; ABR-201007036.R2; Orwell Township, Bradford County, Pa.; Consumptive Use of Up to 7.5000 mgd; Approval Date: July 30, 2020.

23. Chesapeake Appalachia, L.L.C.; Pad ID: Rowe; ABR-201007101.R2; Rome Township, Bradford County, Pa.; Consumptive Use of Up to 7.5000 mgd; Approval Date: July 30, 2020.

24. Chesapeake Appalachia, L.L.C.; Pad ID: Simpson; ABR-201007030.R2; West Burlington Township, Bradford County, Pa.; Consumptive Use of Up to 7.5000 mgd; Approval Date: July 30, 2020.

25. Repsol Oil & Gas, LLC; Pad ID: WILBUR (03 065); ABR-20100552.R2; Wells and Columbia Townships, Bradford County, Pa.; Consumptive Use of Up to 6.0000 mgd; Approval Date: July 30, 2020.

26. Repsol Oil & Gas, LLC; Pad ID: Wilcox #1; ABR-20090803.R2; Covington Township, Tioga County, Pa.; Consumptive Use of Up to 6.0000 mgd; Approval Date: July 30, 2020.

27. Pennsylvania General Energy Company, L.L.C.; Pad ID: COP TRACT 724—PAD A; ABR-20091118.R1; Gamble Township, Lycoming County, Pa.; Consumptive Use of Up to 4.9000 mgd; Approval Date: July 30, 2020.

Authority: Pub. L. 91-575, 84 Stat. 1509 et seq., 18 CFR parts 806, 807, and 808.

Dated: August 13, 2020.
Jason E. Oyler,
General Counsel and Secretary to the Commission.

[FR Doc. 2020-18088 Filed 8-18-20; 8:45 am]

BILLING CODE 7040-01-P